DEPARTMENT OF TRANSPORTATION

Federal Aviation Administration

Approval of Revision No. 1 to the Approved Noise Compatibility Program for Bob Hope Airport, Burbank, CA

AGENCY: Federal Aviation Administration, DOT.

ACTION: Notice.

SUMMARY: The Federal Aviation Administration (FAA) announces its findings on Revision No. 1 to the approved noise compatibility program submitted by the Burbank-Glendale-Pasadena Airport Authority for Bob Hope Airport (formerly known as the Burbank-Glendale-Pasadena Airport) under the provisions of Title I of the Aviation Safety and Noise Abatement Act, as amended, (Public Law 96-193) (hereinafter referred to as “the Act”) and 14 CFR part 150. These findings are made in recognition of the description of Federal and nonfederal responsibilities in Senate Report No. 96-52 (1980). On January 31, 2000, the FAA determined that the noise exposure maps submitted by the Burbank-Glendale-Pasadena Airport Authority for Bob Hope Airport under Part 150 were in compliance with applicable requirements.

EFFECTIVE DATE: The effective date of the FAA's approval of Revision No. 1 to the Approved Noise Compatibility Program for Bob Hope Airport is August 4, 2004.

FOR FURTHER INFORMATION CONTACT: David B. Kessler, AICP, Acting Supervisor, Planning Section/Environmental Protection Specialist, AWP-611, Airports Division, Western-Pacific Region, Federal Aviation Administration. Mailing Address: P.O. Box 92007, Los Angeles, California 90009-2007, Street Address: 15000 Aviation Boulevard, Hawthorne, California 90261. Telephone: 310/725-3615. Documents reflecting this FAA action may be reviewed at this same location.

SUPPLEMENTARY INFORMATION: This notice announces that the FAA has given its overall approval to Revision No. 1 to the Approved Noise Compatibility Program for Bob Hope Airport (formerly known as Burbank-Glendale-Pasadena Airport), effective August 4, 2004. Under section 104(a) of the Aviation Safety and Noise Abatement Act of 1979, as amended (herein after referred to as the “Act”) (recodified as 49 U.S.C. 47504), an airport operator who has previously submitted a Noise Exposure Map may submit to the FAA as Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where federal funding is sought, requests for project grants must be submitted to the FAA's Airports Division Office in Hawthorne, California.

The Burbank-Glendale-Pasadena Airport Authority submitted to the FAA on December 23, 1998, the Noise Exposure Maps, descriptions, and other documentation produced during the noise compatibility planning study conducted from May 1997 to November 1999. The Noise Exposure Maps for Bob Hope Airport (formerly known as Burbank-Glendale-Pasadena Airport) were determined by FAA to be in compliance with applicable requirements on January 31, 2000. Notice of this determination was published in the Federal Register on February 14, 2000.

The Bob Hope Airport study contained a proposed noise compatibility program comprised of actions designed for phased implementation by airport management and adjacent jurisdictions. It was requested that the FAA evaluate and approve this material as a Noise Compatibility Program as described in 49 U.S.C. 47504 (formerly section 104(b) of the Act). The FAA began its review of the program on May 31, 2000, and was required by a provision of the Act to approve or disapprove the program within 180 days (other than the use of new or modified flight procedures for noise control). Failure to approve or disapprove such program within the 180-day period shall be deemed to be an approval of such program. FAA approved the program on November 27, 2000. Notice of this FAA's approval was published in the Federal Register on December 21, 2000.

Revision No. 1 to the approved NCP was submitted by the Burbank-Glendale-Pasadena Airport Authority on January 20, 2004. The FAA began its review of the revision to the approved program on March 11, 2004, and was required by a provision of the Act to approve or disapprove the program within 180 days (other than the use of new or modified flight procedures for noise control). Failure to approve or disapprove such program within the 180-day period shall be deemed to be an approval of such program.

The submitted revision to the approved program contained one proposed action for noise abatement, noise mitigation, land use planning and program management on and off the airport. The FAA completed its review and determined that the procedural and substantive requirements of the Act and FAR Part 150 have been satisfied. Revision No. 1 to the approved program was approved, by the Associate Administrator for Airports, effective August 4, 2004.

Outright approval was granted for the new Land Use Planning Measure No. 7. “Provision for retention of property located in the northwest quadrant of the Airport within the 2003 65 CNEL noise exposure contour.”

The determination is set forth in detail in the Record of Approval signed by the Associate Administrator for Airports on August 4, 2004. The Record of Approval, as well as other evaluation materials and the documents comprising the submittal, are available for review at the FAA office listed above and at the administrative offices of the Burbank-Glendale-Pasadena Airport Authority. The Record of Approval also will be available on-line at: http://www.faa.gov/arp/environmental/14cfr150/index14.cfm.

Issued in Hawthorne, California on August 5, 2004.
Mia Paredes Ratcliff,
Acting Manager, Airports Division, Western-Pacific Region, AWP-600.

[FR Doc. 04-18820 Filed 8-16-04; 8:45 am]

BILLING CODE 4910-13-M